DEPARTMENT OF COMMERCE

National Oceanic and Atmospheric Administration

[Docket No. 030602141-6145-39; I.D. 060506A]

John H. Prescott Marine Mammal Rescue Assistance Grant Program; Main Hawaiian Islands

AGENCY: National Marine Fisheries Service (NMFS), National Oceanic and Atmospheric Administration (NOAA), Commerce.

ACTION: Notice of availability of financial assistance.

SUMMARY: The John H. Prescott Marine Mammal Rescue Assistance Grant Program (Prescott Grant Program) provides funding to eligible marine mammal stranding network participants to fund the recovery or treatment (i.e., rescue and rehabilitation) of stranded marine mammals, data collection from living or dead stranded marine mammals for scientific research regarding marine mammal health, and facility operations directly related to the recovery or treatment of stranded marine mammals and collection of data from living or dead stranded marine mammals. The Prescott Grant Program is administered through the NMFS Marine Mammal Health and Stranding Response Program (MMHSRP). As stranding services have become unavailable in the crucial geographic area of the main Hawaiian Islands, the Prescott Grant Program is making this special announcement to inform the public of the availability of funding up to $200,000 for marine mammal stranding response and rehabilitation activities in this area. The annual competitive cycle of the Prescott Grant Program will be announced separately.

DATES: Applications must be submitted no later than 11:59 p.m. EST on June 27, 2006. Applications received after that time will not be considered for funding.

ADDRESSES: Applications should be submitted via www.grants.gov. If www.grants.gov cannot reasonably be used, applications must be postmarked, or provided to a delivery service and documented with a receipt, by June 27, 2006, and mailed to: NOAA Fisheries, Office of Protected Resources, Prescott Grant Program (F/PR2), 1315 East West Highway, Silver Spring, MD 20910-3282. ATTN: Prescott Hawaii. No facsimile or electronic mail applications will be accepted. Electronic Access to the full funding announcement for this program is available via the Grants.gov Web site: http://www.grants.gov. The announcement will also be available at the Program Web site: http://www.nmfs.noaa.gov/pr/health/prescott/ or by contacting the program official identified below. All application requirements contained in the full funding announcement must be adhered to in submitted proposals.

FOR FURTHER INFORMATION CONTACT: Sarah Wilkin, (301) 713-2322, or by e-mail at sarah.wilkin@noaa.gov

SUPPLEMENTARY INFORMATION:

Background

The Marine Mammal Rescue Assistance Act of 2000 amended the Marine Mammal Protection Act (MMPA) to establish the John H. Prescott Marine Mammal Rescue Assistance Grant Program (16 U.S.C. 1421f-1). An annual competition is conducted for stranding network organizations nationwide. Stranding response services have become unavailable in the crucial geographic area of the main Hawaiian Islands. For this reason, the Prescott Grant Program is making this special announcement of the availability of funds for stranding response in the main Hawaiian Islands outside of the annual competitive cycle, which will be announced separately. This document describes how to submit proposals for funding under this special announcement of the Prescott Grant Program and how we will determine which proposals will be funded.

The Prescott Grant Program is conducted by the Secretary of Commerce to provide Federal assistance to eligible stranding network participants (see section I.E. of this document) for (A) basic needs of organizations for response, treatment, and data collection from living and dead stranded marine mammals, (B) scientific research objectives designed to answer questions about marine mammal strandings, health, or rehabilitation techniques utilizing data from living and dead stranded marine mammals, and (C) facility operations directly related to the recovery, treatment, and data collection from living and dead stranded marine mammals and investigation of scientific research objectives designed to answer questions about marine mammal strandings, health, or rehabilitation techniques utilizing data from living and dead stranded marine mammals. For purposes of this document, a stranded marine mammal is a marine mammal in the wild that is (1) dead and on a beach, shore, or in waters under the jurisdiction of the United States or (2) is live and on a beach or shore of the United States and unable to return to the water, is in apparent need of medical attention, or is in waters under the jurisdiction of the United States but is unable to return to its natural habitat under its own power or without assistance. The Prescott Grant Program is administered through the Marine Mammal Health and Stranding Response Program (MMHSRP) of the National Marine Fisheries Service (NMFS).

Electronic Access

Information on marine mammal stranding response and rehabilitation projects funded to date under the Prescott Grant Program can be found on the World Wide Web at: http://www.nmfs.noaa.gov/pr/health/prescott. As has been the case since October 1, 2004, applicants can access the full funding announcement and download and submit electronic grant applications for NOAA Financial Assistance at the Grants.gov Web site: http://www.grants.gov. Applicants responding to this soliciation are strongly encouraged to submit applications through the Grants.gov web site (see ADDRESSESS).

Initiative Priorities

For this solicitation, all applications must fall within one of the following two priorities. The priorities are not listed in any particular order and each is of equal importance. Note that the purpose of the priority list is to guide applicants in application development by identifying those applications that will best compete during this grant cycle for these limited funds, and to provide technical reviewers with guidance for their evaluations. Details of the priorities are as follows:

1. Enhance network operations to respond to, transport, sample, necropsy, analyze, and dispose of dead stranded marine mammals, including the collection, reporting and sharing of quality Level A, B, and C data, while protecting human health. This may include purchase of supplies and equipment or salary support for veterinary and staffing needs. Specific concerns are: (1) To conduct thorough necropsies to enhance the ability to detect human-interaction and human-induced injuries and mortalities (e.g. entanglements, hookings and gear interaction, and boat strikes); (2) to diagnose and investigate marine mammal disease; and (3) training for network members and members of the general public.

2. Enhance network operations to respond to, rescue, transport, treat, rehabilitate, and humanely euthanize, when necessary, live stranded marine mammals that are sick or injured, while protecting human health.

These Program priorities pertain only to species that are under the authority of the Department of Commerce (cetaceans and pinnipeds, except walrus) as stated in the MMPA. Additionally, proposals for stranding response and rehabilitation of Hawaiian monk seals will not be accepted under this competition. No Prescott funds under this competition will go towards basic scientific research on non-stranded marine mammals (i.e., wild population studies). In addition, no projects involving construction of new facilities for the rescue and rehabilitation of stranded marine mammals will be considered; however, construction projects in established facilities (i.e., those that involve build-outs, alterations, upgrades and renovations) would be appropriate for Category C projects.

NOAA will consider funding more than one project under a single award; however, all projects should be sufficiently developed as per the guidelines and information requirements listed in this document for an application to be competitive, and all projects should be able to be completed within the award period specified below.

Applicants are advised to review the Interim Policies and Best Practices for Marine Mammal Stranding Response, Rehabilitation and Release (available on our Web site at: http://www.nmfs.noaa.gov/pr/health/eis.htm) before submitting their proposed projects.

Funding Availability

Funding of up to $200,000 is expected to be available for stranding response in the main Hawaiian Islands. The maximum Federal award for each grant cannot exceed $100,000, as stated in the legislative language (16 U.S.C. 1421f-1). NOAA does not guarantee that sufficient funds will be available to make awards for all proposals. Publication of this document does not obligate NOAA to award any specific project or obligate all or any parts of any available funds.

There is no limit on the number of proposals that may be submitted by the same stranding network participant during this competition, nor is there any limit on the number of proposals that may be funded to a single institution; however, only $200,000 is expected to be available at this time. Applicants with current or previous Prescott funding may apply and receive funds under this competition in addition to any active or future awards, including the FY 2007 Prescott competition (announced separately).

Authority

The Marine Mammal Rescue Assistance Act of 2000 amended the MMPA to establish the John H. Prescott Marine Mammal Rescue Assistance Grant Program (16 U.S.C. 1421f-1).

Catalog of Federal Domestic Assistance

11.439, Marine Mammal Data Program.

Eligibility

There are 3 categories of eligible stranding network participants that may apply for funds under this Program: (1) Stranding Agreement or Letter of Agreement (SA/LOA) holders; (2) researchers; and, (3) state, local, or tribal government employees.

In this competition, applicants without an organizational history within the stranding network may be considered, provided that the Principal Investigator and Co-Investigators demonstrate the appropriate experience to carry out the proposed activities. Award recipients should be participants in the Hawaiian Islands Marine Mammal Response Network as SA/LOA holders, researchers, or 109(h) responders (government employees) at the time the award is made, unless extenuating circumstances exist. Guidance regarding eligibility status is available from the Full Funding Opportunity posted on Grants.gov or from Program staff (see FOR FURTHER INFORMATION CONTACT).

The Department of Commerce/National Oceanic and Atmospheric Administration (DOC/NOAA) is strongly committed to broadening the participation of historically black colleges and universities, Hispanic-serving institutions, tribal colleges and universities, and institutions that work in under served areas. The Prescott Grant Program encourages proposals from or involving any of the above institutions.

Cost Sharing Requirements

All proposals submitted must provide a minimum non-Federal cost share of 25 percent of the total budget (i.e., .25 x total project costs > total non-Federal share), as stated in the legislative language (16 U.S.C. 1421f-1). For assistance in calculating the required match, please use the cost-share calculator on our Web site at: http://www.nmfs.noaa.gov/pr/health/prescott/proposals/costshare.htm.

Match to NOAA funds can come from a variety of public and private sources and can include in-kind goods and services and volunteer labor. Federal funds are not considered matching funds. Applicants are permitted to combine contributions from multiple non-Federal partners in order to meet the 25-percent match expected, as long as such contributions are not being used to match any other funds.

Applicants whose proposals are selected for funding will be bound by the percentage of cost-sharing reflected in the award document signed by the NOAA Grants Officer. Successful applicants should be prepared to carefully document matching contributions, including the overall number of volunteers and in-kind participation hours devoted to stranding response. Match must be applied to the project during the award period.

Intergovernmental Review

Applications under this initiative are subject to the provisions of Executive Order 12372, Intergovernmental Review of Federal Programs. Applicants are required to complete item 16 on SF-424 regarding clearance by the State Single Point of Contact (SPOC) established as a result of the Executive Order. To find out about and comply with a State's process under Executive Order 12372, the names, addresses and phone numbers of participating SPOC's are available on the Internet at: http://www.whitehouse.gov/omb/grants/spoc.html.

Evaluation and Selection Criteria and Procedures

Peer reviewers will assign scores to proposals ranging from 0 to 100 points in each of the five standard NOAA evaluation criteria. Scores will be weighted as specified:

1. Importance and Applicability of Proposal (weight 40 percent)

This criterion ascertains whether there is intrinsic value in the proposed work and/or relevance to NOAA, Federal, regional, state or local activities.

2. Technical/Scientific Merit (weight 30 percent)

This criterion assesses whether the approach is technically sound and/or innovative, if the methods are appropriate, and whether there are clear project goals and objectives.

3. Overall Qualifications of Applicants (weight 10 percent)

This criterion ascertains whether the applicant possesses the necessary education, experience, demonstrated commitment, training, facilities, and administrative resources to accomplish the project.

4. Project Costs (weight 10 percent)

This criterion evaluates the project's budget to determine if it is realistic and commensurate with the project needs and time-frame.

5. Outreach and Education (weight 10 percent)

NOAA assesses whether the project provides a focused and effective education and outreach strategy regarding NOAA's mission to protect the Nation's natural resources.

Further explanation of the evaluation criteria and their specific application to this competition can be found in the Full Funding Opportunity available at grants.gov.

Applications will be initially screened by NOAA staff to determine if they are eligible, complete and in accordance with instructions detailed in the standard NOAA Grants Application Package. Proposals that pass the initial screening will undergo a technical and merit review, ranking, and selection process.

Applications will be evaluated by at least three individual peer reviewers from outside of the state of Hawaii, according to the criteria and weights described in this solicitation. No consensus advice will be provided by the peer reviewers. The proposals will be rated, and reviewer comments and composite project scores and a rank order will be presented to the merit review panel, which will consist of the NMFS Pacific Islands Regional Marine Mammal Response Coordinator, the National Stranding Coordinator, the Prescott Grant Manager, and other MMHSRP staff as appropriate. The merit review will use the peer review comments and application materials in making recommendations regarding equitable distribution of funds among regions, in ranking all proposals recommended for funding, and in justifying any discrepancies between the peer reviewers' comments and the merit reviewers' recommendations.

The merit review will prepare a recommendation to the Selecting Official, the Director of the Office of Protected Resources. The Selecting Official will select the proposals to be recommended to the Grants Management Division (GMD) for funding and will determine the amount of funds available for each approved proposal. The proposals shall be recommended in rank order unless the proposal is justified to be selected out of rank order based upon one or more of the following factors:

1. The availability of funding;

2. The balance/distribution of funds: (a) Geographically, (b) by type of institutions, (c) by type of partners, (d) by research areas, and (e) by project types;

3. Duplication of other projects funded or considered for funding by NOAA and/or other Federal agencies;

4. Initiative priorities and policy factors as set out in the Full Funding Opportunity available on grants.gov;

5. The applicant's prior award performance;

6. Partnerships and/or participation of targeted groups; and

7. Adequacy of information necessary for NOAA staff to make a NEPA determination and draft necessary documentation before funding recommendations are acted upon by GMD.

Hence, awards may not necessarily be made to the highest scoring proposals. Unsuccessful applicants will be notified that their proposal was not among those recommended for funding. Unsuccessful applications submitted in hard copy will be kept on file for at least one year and then destroyed.

Every effort will be made to award these grants as quickly as possible, in order to minimize the lapse in stranding network coverage in the state of Hawai'i. NOAA suggests reasonable start dates of summer or fall 2006.

National Environmental Policy Act (NEPA)

NOAA must analyze the potential environmental impacts, as required by the National Environmental Policy Act (NEPA), for applicant projects or proposals which are seeking NOAA Federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm).

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems).

In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

Pre-Award Notification Requirements for Grants and Cooperative Agreements

The Department of Commerce Pre-Award Notification Requirements for Grants and Cooperative Agreements contained in the Federal Register notice of December 30, 2004 (69 FR 78389) are applicable to this solicitation.

Limitation of Liability

In no event will NOAA or the Department of Commerce be responsible for proposal preparation costs if this initiative fails to receive funding or is cancelled because of other agency priorities. Publication of this announcement does not oblige NOAA to award any specific project or to obligate any available funds. Recipients and sub-recipients are subject to all Federal laws, agency policies, regulations and procedures applicable to Federal financial assistance awards.

Paperwork Reduction Act

This notification involves collection-of-information requirements subject to the Paperwork Reduction Act. The use of Standard Forms 424, 424A, 424B, and SF-LLL and CD-346 has been approved by the Office of Management and Budget (OMB) under OMB control numbers 0348-0043, 0348-0044, 0348-0040, 0348-0046 and 0605-0001 respectively. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: June 7, 2006.
William T. Hogarth,
Assistant Administrator for Fisheries, National Marine Fisheries Service.

[FR Doc. E6-9205 Filed 6-12-06; 8:45 am]

BILLING CODE 3510-22-S